SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) federal agencies to publish a notice in the Federal Register concerning each proposed collection of information before submission to OMB, and to allow 60 days for public comment in response to the notice. This notice complies with that requirement.

DATES: Submit comments on or before July 18, 2022.

ADDRESSES: Send all comments to, John Kelly, Case Management Specialist, Office of the Ombudsman, Small Business Administration.

FOR FURTHER INFORMATION CONTACT: John Kelly, Case Management Specialist, john.kelly@sba.gov 202-205-6178, or Curtis B. Rich, Agency Clearance Officer, 202-205-7030 curtis.rich@sba.gov.

SUPPLEMENTARY INFORMATION: The Small Business Regulatory Enforcement Fairness Act of 1966, 15 U.S.C. 657(b)(2)(B), requires the SBA National Ombudsman to establish a means for SBA to receive comments on regulatory and compliance actions from small entities regarding their disagreements with a Federal Agency action. The Ombudsman uses it to obtain the agency's response, encourage a fresh look by the agency at a high level, and build a smaller business-friendly regulatory environment.

OMB Control Number: 3245-0313.

Title: “Federal Agency Comment Form”.

Description of Respondents: Small business entities.

Form Number: SBA Form 1993.

Annual Responses: 340.

Annual Burden: 340.

Curtis Rich,
Agency Clearance Officer.

[FR Doc. 2022-10577 Filed 5-16-22; 8:45 am]

BILLING CODE 8026-09-P